DEPARTMENT OF COMMERCE

Submission for OMB Review; Comment Request

The Department of Commerce will submit to the Office of Management and Budget (OMB) for clearance the following proposal for collection of information under the provisions of the Paperwork Reduction Act (44 U.S.C. Chapter 35).

AGENCY: National Oceanic and Atmospheric Administration (NOAA).

Title: Certification Requirements for Distributors of NOAA Electronic Navigational Charts/NOAA Hydrographic Products.

Form Number(s): None.

OMB Approval Number: 0648-0508.

Type of Request: Regular submission.

Burden Hours: 328.

Number of Respondents: 8.

Average Hours per Response: Semi-annual reports, 1 hour; error reports, 1 hour and 30 minutes.

Needs and Uses: Electronic navigational charts (ENCs) are one of NOAA's products under its Nautical Charting Program. Official NOAA ENCs which conform to International Hydrographic Organization (IHO) standards may be used in a type approved display system, such as an Electronic Chart Display and Information System (ECDIS), to comply with Federal nautical chart carriage requirements administered by the U.S. Coast Guard.

In 2005, NOAA established a certification program for the re-distribution of official NOAA ENCs, codified in 15 CFR part 995, in order to ensure the quality and content of official NOAA ENCs remains intact throughout the redistribution process. The information collected allows NOAA to administer the regulation, and to better understand which ENCs are being distributed more often, resulting in products that meet the needs of the customer in a timely and efficient manner.

Affected Public: Business or other for-profit organizations.

Frequency: Semi-annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 22, 2008.
Gwellnar Banks,
Management Analyst, Office of the Chief Information Officer.

[FR Doc. E8-17163 Filed 7-25-08; 8:45 am]

BILLING CODE 3510-22-P